DEPARTMENT OF ENERGY

Federal Energy Regulatory Commission

[Project No. 6240-064]

Watson Associates; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 6240-064.

c. Date Filed: August 27, 2021.

d. Applicant: Watson Associates.

e. Name of Project: Watson Dam Hydroelectric Project (project).

f. Location: On the Cocheco River in Strafford County, New Hampshire. The project does not occupy any federal land.

g. Filed Pursuant to: Federal Power Act, 16 U.S.C. 791(a)-825(r).

h. Applicant Contact: Mr. John Webster, Watson Associates, P.O. Box 178, South Berwick, ME 03908; Phone at (207) 384-5334, or email at Hydromagnt@gwi.net.

i. FERC Contact: Michael Watts at (202) 502-6123, or michael.watt@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-6240-064.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

l. Project Description: The existing Watson Dam Project consists of: (1) a 285.25-foot-long, 12-foot-high concrete gravity dam that includes the following sections: (a) a 43-foot-long west abutment; (b) a 122-foot-long west spillway section with 24-inch-high flashboards, a crest elevation of 110.1 North American Vertical Datum of 1988 (NAVD 88) at the top of the flashboards, and a 3-foot-wide notch at an elevation of 109.6 NAVD 88; (c) an 11.25-foot-long, 11.5-foot-wide concrete spillway center pier; (d) an 80-foot-long east spillway section with 24-inch-high flashboards and a crest elevation of 110.2 feet NAVD 88 at the top of the flashboards; and (e) a 29-foot-long east abutment; (2) an impoundment with a surface area of 54 acres and a storage capacity of 300 acre-feet at an elevation of 110.1 feet NAVD 88; (3) a 23.5-foot-long intake structure in the east abutment that is equipped with an 8.5-foot-diameter headgate and trashrack with 2-inch clear bar spacing and a 1-inch mesh overlay; (4) a 26.5-foot-long, 34-foot-wide wood and steel powerhouse containing one 265-kilowatt vertical Flygt submersible turbine-generator unit; (5) a 250-foot-long, 20-foot-wide tailrace that discharges into the Cocheco River; (6) a 0.48/12.47-kilovolt (kV) step-up transformer and an 80-foot-long, 12.47 kV transmission line that connect the project to the local utility distribution system; and (7) appurtenant facilities. The project creates an approximately 400-foot-long bypassed reach of the Cocheco River.

Watson Associates operates the project in a run-of-river mode using an automatic pond level control system to regulate turbine operation, such that outflow from the project approximates inflow. Downstream fish passage is provided by a bypass facility located next to the project's intake on the east side of the dam that includes an approximately 30-foot-long, 24-inch-diameter pipe that discharges to a plunge pool downstream of the dam.

Article 26 of the current license requires a minimum flow of 83 cubic feet per second or inflow to the impoundment, whichever is less, from the project, to protect and enhance aquatic resources in the Cocheco River. Watson Associates is required to operate the downstream fish passage facility from October 1 through November 15 of each year. The average annual energy production of the project is approximately 1,100 megawatt hours.

Watson Associates proposes to: (1) continue to operate the project in a run-of-river mode; (2) continue to provide downstream fish passage through the bypass facility; and (3) consult with the New Hampshire State Historic Preservation Officer before beginning any land-disturbing activities or alterations to known historic structures within the project boundary.

m. A copy of the application can be viewed on the Commission's website at https://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural schedule: The application will be processed according to the following preliminary schedule. Revisions to the schedule will be made as appropriate.

Milestone | Target date
Deadline for filing interventions, protests, comments, recommendations, preliminary terms and conditions, and preliminary fishway prescriptions | October 2022.
Deadline for filing reply comments | December 2022.

q. Final amendments to the application must be filed with the Commission no later than 30 days from the issuance date of this notice.

Dated: August 23, 2022.
Kimberly D. Bose,
Secretary.

[FR Doc. 2022-18564 Filed 8-26-22; 8:45 am]

BILLING CODE 6717-01-P